DEPARTMENT OF ENERGY

Federal Energy Regulatory Commission

[Docket No. CP02-391-000]

Natural Gas Pipeline Company of America; Notice of Application

July 9, 2002.

On June 24, 2002, Natural Gas Pipeline Company of America (Natural), located at 747 East 22nd Street, Lombard, Illinois 60148, filed an application in Docket No. CP02-391-000 pursuant to section 7(c) of the Natural Gas Act (NGA), and subpart A of part 157 of the Federal Energy RegulatoryCommission's (Commission) regulations for a certificate of public convenience and necessity authorizing the construction and operation of one new 6,000 horsepower compressor and the construction of seventeen new injection/withdrawal wells at Natural's North Lansing Storage Field located in Harrison County, Texas, which will enable Natural to provide an additional 10.7 Bcf of firm storage service. The total estimated construction cost for the proposed section 7(c) facilities is $31,053,749. The application is on file with the Commission and open to public inspection. This filing may be viewed on the web at http://www.ferc.gov using the “RIMS” link, select “Docket #” and follow the instructions (call (202)208-2222 for assistance).

The additional 10.7 Bcf working gas and storage service was offered to customers on a firm basis under Natural's Rate Schedule “Nominated Storage Service” (NSS). One new non-affiliated shipper has signed a binding precedent agreement for the full volume for a term of not less than ten years with a negotiated rate for service on Natural's Gulf Coast system. The project will result in an aggregate maximum daily quantity of 146,666 Dth of additional NSS. Furthermore, Natural proposes that the NSS service will be available by the summer of 2003 and requests that the Commission issue a certificate in this docket by November 2002.

Any questions regarding this application should be directed to Floyd Hofstetter, Vice President, Storage Operations, Natural Gas Pipeline Company of America, 747 East 22nd Street, Lombard, Illinois 60148, phone (630) 691-3660.

There are two ways to become involved in the Commission's review of this project. First, any person wishing to obtain legal status by becoming a party to the proceedings for this project should, on or before July 30, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the nonparty commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-17717 Filed 7-12-02; 8:45 am]

BILLING CODE 6717-01-P